DEPARTMENT OF HEALTH AND HUMAN SERVICES

Health Resources and Services Administration

Advisory Committee on Interdisciplinary, Community-Based Linkages; Notice of Meeting; Cancellation

In notice FR Doc. 03-20249, on page 47344 in the Federal Register of August 8, 2003, the meeting scheduled for September 7-9, 2003, is canceled.

Authority: Public Law 92-463.

Dated: August 15, 2003.
Jane M. Harrison,
Director, Division of Policy Review and Coordination.

[FR Doc. 03-21397 Filed 8-20-03; 8:45 am]

BILLING CODE 4165-15-P